DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; 67 FR 46519, as amended June 11, 2008; 73 FR 33099, as amended September 30, 2009, 78 FR 50227, as last amended January 24, 2013, 78 FR 7436). This Order of Succession supersedes the Order of Succession for the Administrator, HRSA, published at 78 FR 7436, February 1, 2013.

This notice deletes the Bureau of Health Professions; the Bureau of Clinician Recruitment and Services; and Regional Division Directors from the order of succession, and adds the Bureau of Health Workforce and Regional Administrators to HRSA's hierarchy affecting the Order of Succession. This notice reflects the new Order of Succession for HRSA.

Section R-30, Order of Succession

During the absence or disability of the Administrator, or in the event of a vacancy in the office, the officials designated below shall act as Administrator in the order in which they are listed:

1. Deputy Administrator;

2. Chief Operating Officer;

3. Associate Administrator, Bureau of Primary Health Care;

4. Associate Administrator, Bureau of Health Workforce;

5. Associate Administrator, HIV/AIDS Bureau;

6. Associate Administrator, Maternal and Child Health Bureau;

7. Associate Administrator, Healthcare Systems Bureau;

8. Associate Administrator, Office of Regional Operations; and

9. HRSA Regional Administrators in the order in which they have received their permanent appointment as such.

Exceptions

(a) No official listed in this section who is serving in acting or temporary capacity shall, by virtue of so serving, act as Administrator pursuant to this section.

(b) Notwithstanding the provisions of this section, during a planned period of absence, the Administrator retains the discretion to specify a different order of succession.

Section R-40, Delegations of Authority

All delegations of authority and re-delegations of authority made to HRSA officials that were in effect immediately prior to this action, and that are consistent with this action, shall continue in effect pending further re-delegation, pending further re-delegation, provided they are consistent with this action.

This document is effective upon date of signature.

Dated: June 25, 2014.
Mary K. Wakefield,
Administrator.

[FR Doc. 2014-15498 Filed 7-1-14; 8:45 am]

BILLING CODE 4165-15-P